ENVIRONMENTAL PROTECTION AGENCY

[ER-FRL-9009-3]

Environmental Impacts Statements; Notice of Availability

Responsible Agency: Office of Federal Activities, General Information (202) 564-7146 or http://www.epa.gov/compliance/nepa/.

Weekly receipt of Environmental Impact Statements Filed 05/13/2013 through 05/17/2013

Pursuant to 40 CFR 1506.9.

Notice

Section 309(a) of the Clean Air Act requires that EPA make public its comments on EISs issued by other Federal agencies. EPA's comment letters on EISs are available at: http://www.epa.gov/compliance/nepa/eisdata.html.

EIS No. 20130131, Draft EIS, FHWA, UT, West Davis Corridor, Comment Period Ends: 08/23/2013, Contact: Paul Ziman 801-955-3525.

EIS No. 20130132, Final EIS, USFWS, AK, Shadura Natural Gas Development Project within Kenai National Wildlife Refuge, Review Period Ends: 06/24/2013, Contact: Peter Wikoff 907-786-3837.

EIS No. 20130133, Draft EIS, BLM, CO, Dominguez-Escalante National Conservation Area Draft Resource Management Plan, Comment Period Ends: 08/15/2013, Contact: Samantha Staley 970-244-3188.

EIS No. 20130134, Draft EIS, FERC, CA, Drum-Spaulding Hydroelectric Project and Yuba-Bear Hydroelectric Project for Hydropower License, Comment Period Ends: 07/23/2013, Contact: Alan Mitchnick 202-502-6074.

EIS No. 20130135, Revised Final EIS, USACE, LA, Morganza to the Gulf of Mexico, Hurricane and Storm Damage Risk Reduction System Project, Review Period Ends: 06/24/2013, Contact: Nathan Dayan 504-862-2530.

EIS No. 20130136, Draft EIS, USACE, NV, Truckee Meadows Flood Control Project, Comment Period Ends: 07/08/2013, Contact: Tyler Stalker 916-557-5100.

EIS No. 20130137, Draft EIS, USFS, WY, Mackey Road Relocation, Medicine Bow-Routt National Forests and Thunder Basin National Grassland, Comment Period Ends: 07/09/2013, Contact: Amy Ormseth 307-358-4690.

Dated: May 21, 2013.
Cliff Rader,
Director, NEPA Compliance Division, Office of Federal Activities.

[FR Doc. 2013-12458 Filed 5-23-13; 8:45 am]

BILLING CODE 6560-50-P